DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Coastal Zone Management Act External Evaluation.

OMB Control Number: None.

Form Number(s): None.

Type of Request: Regular submission.

Number of Respondents: 78.

Average Hours per Response: Two hours.

Burden Hours: 156.

Needs and Uses: This information collection is an external evaluation of how the National Oceanic and Atmospheric Administration's (NOAA's) Office of Ocean and Coastal Resource Management (OCRM) is operating and managing coastal management and estuarine research reserve programs under the Coastal Zone Management Act (CZMA), particularly in terms of how the OCRM plans, measures, reviews and directs funding for these programs to achieve the objectives of the CZMA. The contractor shall examine the extent to which planning and performance-based management processes have changed in the past five to six years and make recommendations to the appropriate officials of NOAA, the National Ocean Service (NOS), and the OCRM about how the programs can further improve their planning, budgeting, and performance measurement processes to weigh priorities and assign resources based on the clearest needs. The contractor shall also make recommendations, if appropriate, for improving the programs' evaluation and funding guidance and mechanisms to enhance its capacity for demonstrate program outcomes and results, as well as improving linkages between the component programs.

Affected Public: State, local and tribal governments; not-for-profit institutions.

Frequency: One-time.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 30, 2009.
Gwellnar Banks,
Management Analyst, Office of the Chief Information Officer.

[FR Doc. E9-28857 Filed 12-2-09; 8:45 am]

BILLING CODE 3510-22-P